GENERAL SERVICES ADMINISTRATION

[Notice-PBS-2024-02; Docket No. 2024-0002; Sequence No. 3]

Notice of Availability of a Draft Environmental Impact Statement for the Alcan Land Port of Entry Expansion and Modernization in Alcan, Alaska

AGENCY: Public Buildings Service, General Services Administration (GSA).

ACTION: Notice of availability; announcement of public hearing.

SUMMARY: Pursuant to the requirements of the National Environmental Policy Act of 1969 (NEPA), GSA has prepared a Draft Environmental Impact Statement (DEIS) to analyze the potential environmental effects of the proposed expansion and modernization of the existing Alcan LPOE. The Alcan LPOE is located at Milepost 1221.8 on the Alaska Highway, 0.43 miles from the U.S./Canada Border. U.S. Customs and Border Protection (CBP) operates this facility year-round in sub-arctic weather conditions. The Alcan LPOE is the only 24-hour port serving privately-owned vehicles (POVs) and commercial traffic between the Yukon Territory, Canada, and mainland Alaska. GSA proposes to build an expanded and modernized LPOE and new housing units at Alcan, Alaska, to replace the existing facilities. The DEIS describes the purpose and need for the proposed project, the alternatives considered, the existing environment that could be affected, the potential impacts resulting from each of the alternatives, and proposed best management practices and mitigation measures.

DATES: Public Comment Period—Interested parties are invited to provide comments on the DEIS. The public comment period begins with the publication of this NOA in the Federal Register and will end on April 11, 2024. Comments must be postmarked or received by the last day of the public comment period (see ADDRESSES section of this NOA for how to submit comments).

Hearing Date—GSA will host a hybrid public hearing for the DEIS on Tuesday, March 12, 2024, starting at 6 p.m. Alaska Daylight Saving Time (AKDT). Interested parties are invited to attend the hearing in person at the Northway Community Center, Main Hall at 183 Circle Drive, Northway, AK 99764 or participate online via the Zoom platform. Refer to the ADDRESSES section of this NOA for additional details on the public hearing location and registration.

ADDRESSES: The DEIS can be viewed or downloaded from the GSA website at www.gsa.gov/Alcan. Comments on the Alcan LPOE DEIS will be accepted until April 11,2024, and may be submitted by one of the following methods:

• Mail: Written comments must be postmarked by April 11, 2024. Address all physical mail to: U.S. General Services Administration, Attention: Aaron Evanson, Capital Project Manager, 1301 A Street, Suite 610, Tacoma, WA 98402

• Email: Submit your comments via email to AlcanLPOE@gsa.gov. Include “Alcan DEIS” in the subject line of the message.

• Public Hearing: Verbal and written comments will be accepted during the hybrid public hearing on Tuesday, March 12, 2024, starting at 6 p.m. AKDT. The public hearing will begin with a presentation including an overview of the NEPA process and the proposed project as well as the findings of the DEIS. Following the presentation, there will be a moderated session during which members of the public participating either virtually or in person will be able to provide comments verbally or in writing. A link to register to attend the public meeting virtually, via Zoom, is available at www.gsa.gov/Alcan. Members of the public may attend the meeting in person at Northway Community Center, Main Hall, 183 Circle Drive, Northway, AK 99764.

Comments sent by any other method, to any other address or individual, or received after the end of the comment period may not be considered by GSA. All comments received are part of the public record. All personal identifying information (e.g., name, address, etc.), confidential business information, or otherwise sensitive information submitted voluntarily by the sender will be publicly accessible. GSA will accept anonymous comments.

FOR FURTHER INFORMATION CONTACT: Aaron Evanson, Capital Project Manager, (206) 445-5876, AlcanLPOE@gsa.gov.

SUPPLEMENTARY INFORMATION: GSA identified one action alternative that meets the stated purpose and need of the proposed project and thus has been analyzed in detail in the DEIS. GSA also analyzed a “No Action” alternative, which evaluates the effects that would occur if GSA continued to operate the LPOE under current conditions (i.e., the status quo).

Alternative 1 consists of expanding and modernizing the existing Alcan LPOE. Alternative 1 would include: land acquisition; site preparation and grading; construction of a new Main LPOE Building, enclosed inspection vehicle spaces, new housing units with improved security measures, a firing range, and a helipad; and demolition of the existing LPOE structures. Land acquisition under Alternative 1 would expand the port to include up to 2.5 acres of land south of and across the Alaska Highway from the existing LPOE.

All facility and infrastructure improvements proposed under Alternative 1 would incorporate a sustainable, climate-resilient, cyber-secure, and operationally efficient design. GSA would seek to meet or exceed energy and sustainability goals established by federal guidelines and policies, along with industry standard building codes and best practices.

Based on CBP and GSA design standards, the total enclosed building area required for the modernized Alcan LPOE and housing would be 129,145 square feet (sf) with an additional 3,820 sf of booths and canopies and 3,600 sf of outdoor parking and hard surfaces. Alternative 1 would provide dual-purpose inspection lanes to allow for flexibility of inspection operations as well as enclosed spaces for secondary inspection of POVs and commercial vehicles. A modernized Main LPOE Building would also enhance the holding and interview capabilities of the Alcan LPOE to meet current CBP security standards.

There would be approximately 15 acres of temporary ground disturbance and 5 acres of permanent ground disturbance under Alternative 1. Approximately 5 acres would be used as a staging area during construction. There are currently 8 acres of impermeable surfaces at the LPOE; expansion and modernization would add an estimated 4 additional acres of impervious surfaces.

GSA and CBP are considering an option under Alternative 1 to pursue joint operation of the Alcan LPOE with the Canada Border Services Agency (CBSA). CBSA and CBP officers would jointly operate the facility to conduct inspections of U.S. commercial vehicles and POVs entering Canada; however, no housing would be provided for CBSA officers at Alcan. This option would not affect the design or CBP staffing of the expanded and modernized Alcan LPOE, nor contribute additional environmental impacts under the action alternative, and hence is not analyzed further in the DEIS.

GSA also evaluated a No Action alternative, which assumes that expansion or modernization of the LPOE would not occur and that port operations would continue under current conditions. The No Action alternative does not meet the stated purpose and need of the proposed project.

Classification: The DEIS was prepared in compliance with the NEPA, as amended (42 United States Code [U.S.C.] et seq.), which requires federal agencies to examine the impacts of their proposed projects or actions on the human and natural environment and consider alternatives to the proposal before deciding on taking an action. The DEIS complies with the 2020 Council on Environmental Quality (CEQ) NEPA regulations (40 Code of Federal Regulations [CFR] § 1500-1508), as modified by the Phase I 2022 revisions. The effective date of the 2022 revisions was May 20, 2022, and reviews that began after this date are required to apply the 2020 regulations as modified by the Phase I revisions unless there is a clear and fundamental conflict with an applicable statute. The DEIS effort began on January 10, 2023, and accordingly proceeds under the 2020 regulations as modified by the Phase I revisions. In addition, the DEIS also complies with the GSA Public Buildings Service NEPA Desk Guide and other relevant federal and state laws and regulations and executive orders and integrates the consultation processes required under Section 106 of the National Historic Preservation Act and Section 7 of the Endangered Species Act with the NEPA process.

Anamarie Crawley,
Director, R10 Facilities Management Division, 10PM.

[FR Doc. 2024-03780 Filed 2-23-24; 8:45 am]

BILLING CODE 6820-DL-P